DEPARTMENT OF ENERGY

Federal Energy Regulatory Commission

Combined Notice of Filings #2

Take notice that the Commission received the following exempt wholesale generator filings:

Docket Numbers: EG17-35-000.

Applicants: Grady Wind Energy Center, LLC.

Description: Notice of Self-Certification of Exempt Wholesale Generator Status of Grady Wind Energy Center, LLC.

Filed Date: 12/21/16.

Accession Number: 20161221-5418.

Comments Due: 5 p.m. ET 1/11/17.

Take notice that the Commission received the following electric rate filings:

Docket Numbers: ER10-1790-014; ER10-1821-014; ER11-2029-005.

Applicants: BP Energy Company, Cedar Creek II, LLC, Goshen Phase II LLC.

Description: Updated Market Power Analysis for Northwest Region of BP Energy Company, et al.

Filed Date: 12/21/16.

Accession Number: 20161221-5459.

Comments Due: 5 p.m. ET 2/21/17.

Docket Numbers: ER10-2759-006; ER10-2631-006; ER10-2732-012; ER10-2733-012; ER10-2734-012; ER10-2736-012; ER10-2737-012; ER10-2741-012; ER10-2749-012; ER10-2752-012; ER12-2492-008; ER12-2493-008; ER12-2494-008; ER12-2495-008; ER12-2496-008; ER13-815-004; ER14-264-003; ER16-2455-002; ER16-2456-002; ER16-2457-002; ER16-2458-002; ER16-2459-002.

Applicants: Bridgeport Energy LLC, Emera Energy Services, Inc., Emera Energy U.S. Subsidiary No. 1, Inc., Emera Energy U.S. Subsidiary No. 2, Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC, Emera Energy Services Subsidiary No. 11 LLC, Emera Energy Services Subsidiary No. 12 LLC, Emera Energy Services Subsidiary No. 13 LLC, Emera Energy Services Subsidiary No. 14 LLC, Emera Energy Services Subsidiary No. 15 LLC, Emera Maine, Rumford Power Inc., Tiverton Power LLC.

Description: Triennial Update for the Northeast Region of Bridgeport Energy LLC, et al.

Filed Date: 12/21/16.

Accession Number: 20161221-5467.

Comments Due: 5 p.m. ET 2/21/17.

Docket Numbers: ER12-540-007; ER10-1346-006; ER10-1348-006; ER12-539-007.

Applicants: APDC, Inc., Atlantic Power Energy Services (US) LLC, Frederickson Power L.P., ManChief Power Company LLC.

Description: Triennial market power update for Northwest region of APDC, Inc., et al.

Filed Date: 12/21/16.

Accession Number: 20161221-5462.

Comments Due: 5 p.m. ET 2/21/17.

Docket Numbers: ER13-1944-006.

Applicants: PJM Interconnection, L.L.C.

Description: Compliance filing: Errata to Correct MISO-PJM JOA section 9.4 effective May 30, 2016 to be effective 5/30/2016.

Filed Date: 12/22/16.

Accession Number: 20161222-5085.

Comments Due: 5 p.m. ET 1/3/17.

Docket Numbers: ER15-2589-000.

Applicants: CPV Shore, LLC.

Description: Report Filing: Informational Filing Regarding Planned Transfer to be effective N/A.

Filed Date: 12/21/16.

Accession Number: 20161221-5241.

Comments Due: 5 p.m. ET 1/11/17.

Docket Numbers: ER16-771-001.

Applicants: Midcontinent Independent System Operator, Inc., Consumers Energy Company.

Description: Compliance filing: 2016-12-22_Consumers Energy WDS Agreements (Compliance) to be effective 4/1/2016.

Filed Date: 12/22/16.

Accession Number: 20161222-5065.

Comments Due: 5 p.m. ET 1/12/17.

Docket Numbers: ER17-110-001.

Applicants: California Independent System Operator Corporation.

Description: Compliance filing: 2016-12-22 Aliso Canyon Gas-Electric Coordination Enhancement Phase 2 Compliance to be effective 11/30/2016.

Filed Date: 12/22/16.

Accession Number: 20161222-5167.

Comments Due: 5 p.m. ET 1/12/17.

Docket Numbers: ER17-423-000.

Applicants: Rubicon NYP Corp.

Description: Amendment to November 29, 2016 Rubicon NYP Corp tariff filing [Asset Appendix B].

Filed Date: 12/22/16.

Accession Number: 20161222-5348.

Comments Due: 5 p.m. ET 1/12/17.

Docket Numbers: ER17-615-000.

Applicants: Albany Green Energy, LLC.

Description: Baseline eTariff Filing: Albany Green Energy LLC MBR Application Filing to be effective 2/20/2017.

Filed Date: 12/22/16.

Accession Number: 20161222-5452.

Comments Due: 5 p.m. ET 1/12/17.

Docket Numbers: ER17-630-000.

Applicants: North Wind Turbines LLC.

Description: § 205(d) Rate Filing: Market-Based Rate Tariff Revisions to be effective 12/23/2016.

Filed Date: 12/22/16.

Accession Number: 20161222-5114.

Comments Due: 5 p.m. ET 1/12/17.

Docket Numbers: ER17-631-000.

Applicants: Norwalk Power LLC.

Description: § 205(d) Rate Filing: Market-Based Rate Tariff Revisions to be effective 12/23/2016.

Filed Date: 12/22/16.

Accession Number: 20161222-5117.

Comments Due: 5 p.m. ET 1/12/17.

Docket Numbers: ER17-632-000.

Applicants: NRG Power Marketing LLC.

Description: § 205(d) Rate Filing: Market-Based Rate Tariff Revisions to be effective 12/23/2016.

Filed Date: 12/22/16.

Accession Number: 20161222-5122.

Comments Due: 5 p.m. ET 1/12/17.

Docket Numbers: ER17-633-000.

Applicants: Reliant Energy Northeast LLC.

Description: § 205(d) Rate Filing: Market-Based Rate Tariff Revisions to be effective 12/23/2016.

Filed Date: 12/22/16.

Accession Number: 20161222-5125.

Comments Due: 5 p.m. ET 1/12/17.

Docket Numbers: ER17-634-000.

Applicants: RRI Energy Services, LLC.

Description: § 205(d) Rate Filing: Market-Based Rate Tariff Revisions to be effective 12/23/2016.

Filed Date: 12/22/16.

Accession Number: 20161222-5126.

Comments Due: 5 p.m. ET 1/12/17.

Docket Numbers: ER17-635-000.

Applicants: Saguaro Power Company, A Limited Partner.

Description: § 205(d) Rate Filing: Market-Based Rate Tariff Revisions to be effective 12/23/2016.

Filed Date: 12/22/16.

Accession Number: 20161222-5131.

Comments Due: 5 p.m. ET 1/12/17.

Docket Numbers: ER17-636-000.

Applicants: Southern California Edison Company.

Description: § 205(d) Rate Filing: DSA 5149 Lancaster Energy Project SA No. 915 to be effective 2/21/2017.

Filed Date: 12/22/16.

Accession Number: 20161222-5138.

Comments Due: 5 p.m. ET 1/12/17.

Docket Numbers: ER17-637-000.

Applicants: Pennsylvania Electric Company, Mid-Atlantic Interstate Transmission, LLC, PJM Interconnection, L.L.C.

Description: § 205(d) Rate Filing: Pennsylvania Electric Company and MAIT submit Service Agreement No. 4555 to be effective 1/1/2017.

Filed Date: 12/22/16.

Accession Number: 20161222-5205.

Comments Due: 5 p.m. ET 1/12/17.

Docket Numbers: ER17-638-000.

Applicants: Southern California Edison Company.

Description: § 205(d) Rate Filing: True Up of Costs for the Grand Crossing WDLA to be effective 2/23/2017.

Filed Date: 12/22/16.

Accession Number: 20161222-5304.

Comments Due: 5 p.m. ET 1/12/17.

Docket Numbers: ER17-639-000.

Applicants: Trans Bay Cable LLC.

Description: § 205(d) Rate Filing: Annual TRBAA filing to be effective 1/1/2017.

Filed Date: 12/22/16.

Accession Number: 20161222-5332.

Comments Due: 5 p.m. ET 1/12/17.

Docket Numbers: ER17-640-000.

Applicants: Duke Energy Progress, LLC.

Description: § 205(d) Rate Filing: Waynesville NITSA Amendment SA No. 303 to be effective 1/1/2017.

Filed Date: 12/22/16.

Accession Number: 20161222-5352.

Comments Due: 5 p.m. ET 1/12/17.

Docket Numbers: ER17-641-000.

Applicants: Florida Power & Light Company.

Description: Notice of Cancellation of Second Revised Service Agreement No. 194 of Florida Power & Light Company.

Filed Date: 12/21/16.

Accession Number: 20161221-5465.

Comments Due: 5 p.m. ET 1/11/17.

Docket Numbers: ER17-642-000.

Applicants: Florida Power & Light Company.

Description: Notice of Cancellation of Rate Schedule No. 305\4 of Florida Power & Light Company.

Filed Date: 12/21/16.

Accession Number: 20161221-5466.

Comments Due: 5 p.m. ET 1/11/17.

Docket Numbers: ER17-643-000.

Applicants: New Brunswick Energy Marketing Corporation.

Description: § 205(d) Rate Filing: Revisions to Market-Based Rate Tariff to be effective 12/23/2016.

Filed Date: 12/22/16.

Accession Number: 20161222-5437.

Comments Due: 5 p.m. ET 1/12/17.

Docket Numbers: ER17-644-000.

Applicants: Talen Energy Marketing, LLC.

Description: § 205(d) Rate Filing: Revised Market-Based Rate Tariff to be effective 2/22/2017.

Filed Date: 12/22/16.

Accession Number: 20161222-5455.

Comments Due: 5 p.m. ET 1/12/17.

Docket Numbers: ER17-645-000.

Applicants: Talen Montana, LLC.

Description: § 205(d) Rate Filing: Revised Market-Based Rate Tariff to be effective 2/22/2017.

Filed Date: 12/22/16.

Accession Number: 20161222-5456.

Comments Due: 5 p.m. ET 1/12/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2016.
Nathaniel J. Davis, Sr.,
Deputy Secretary.

[FR Doc. 2016-31534 Filed 12-28-16; 8:45 am]

BILLING CODE 6717-01-P